DEPARTMENT OF COMMERCE

National Oceanic and Atmospheric Administration

50 CFR Part 300

RIN 0648-AX72

Identification and Certification of Nations Whose Fishing vessels Are Engaged in Illegal, Unreported, or Unregulated Fishing or Bycatch of Protected Living Marine Resources; Correction

AGENCY: National Marine Fisheries Service (NMFS), National Oceanic and Atmospheric Administration (NOAA), Commerce.

ACTION: Notice of public hearing; request for comments; correction.

SUMMARY: NMFS published a document in the Federal Register of March 3, 2009, announcing five public hearings to discuss and collect comments on issues described in a proposed rule for developing identification and certification procedures to address illegal, unreported, or unregulated fishing activities and bycatch of protected living marine resources pursuant to the High Seas Driftnet Fishing Moratorium Protection Act. This document corrects a hotel name, address, and phone number of an April 6, 2009, meeting.

FOR FURTHER INFORMATION CONTACT: Laura Cimo (ph. 301-713-9090, fax 301-713-9106, e-mail Laura.Cimo@noaa.gov).

SUPPLEMENTARY INFORMATION:

Correction

In the Federal Register of March 3, 2009, in FR Doc. E9—4478, on page 9208, in the second column, under the heading “Dates, Times, and Locations” correct the hotel name, address, and phone number under “2” to read:

“2. Monday, April 6, 2009, 6:30-8:30 p.m., Crowne Plaza, Lincoln Ballroom, 8777 Georgia Avenue, Silver Spring, MD 20910; phone 301-589-0800.”

Dated: March 9, 2009.
Jean-Pierre Ple,
Acting Director, Office of International Affairs, National Marine Fisheries Service.

[FR Doc. E9-5483 Filed 3-13-09; 8:45 am]

BILLING CODE 3510-22-S